DEPARTMENT OF ENERGY

Federal Energy Regulatory Commission

[Docket No. ER 363 000]

American Transmission Systems, Inc.; Notice of Filing

November 13, 2000.

Take note that on November 3, 2000, American Transmission Systems, Inc., tendered for filing proposed amendments to its Open Access Transmission Tariff designed to implement the Ohio Retail Electric Program. American Transmission Systems, Inc., requests waiver of notice to permit an effective date of January 1, 2001 for the amendments.

Copies of this filing have been served on the transmission customers of American Transmission Systems, Inc., Parties to FirstEnergy's Ohio transition plan case, and the utility commissions in Ohio and Pennsylvania.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before November 24, 2000. Protests will be considered by the Commission to determine the appropriate action to be taken, but will not serve to make protestants parties to the proceedings. Any person wishing to become a party must file a motion to intervene. Copies of this filing are on file with the Commission and are available for public inspection. This filing may also be viewed on the Internet at ­http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29592 Filed 11-17-00; 8:45 am]

BILLING CODE 6717-01-M